DEPARTMENT OF TRANSPORTATION

Federal Aviation Administration

Aviation Rulemaking Advisory Committee Meeting on Transport Airplane and Engine Issues

AGENCY: Federal Aviation Administration (FAA), DOT.

ACTION: Notice of public meeting.

SUMMARY: This notice announces a public meeting of the FAA's Aviation Rulemaking Advisory Committee (ARAC) to discuss transport airplane and engine (TAE) issues.

DATES: The meeting is scheduled for September 12-13, 2000, beginning at 8:30 a.m. on September 12. Arrange for oral presentations by September 7.

ADDRESSES: Boeing Commercial Airplane Group, 535 Garden Avenue, N., Building 10-16, Renton, WA.

FOR FURTHER INFORMATION CONTACT: Effie M. Upshaw, Office of Rulemaking, ARM-209, FAA, 800 Independence Avenue, SW., Washington, DC 20591, Telephone (202) 267-7626, FAX (202) 267-5075, or e-mail at effie.upshaw@faa.gov.

SUPPLEMENTARY INFORMATION: Pursuant to section 10(a)(2) of the Federal Advisory Committee Act (Pub. L. 92-463; 5 U.S.C. app. III), notice is given of an ARAC meeting to be held September 12-13, 2000, in Renton, WA.

The agenda will include:

September 12

• Opening Remarks.

• FAA Report.

• Joint Aviation Authorities Report.

• Transport Canada Report.

• Executive Committee Meeting Report.

• Human Factors HWG Report.

• Engine Harmonization Working Group (HWG) Report.

• Avionics Systems HWG Report.

• General Structures HWG Report.

• Airworthiness Assurance Working Group Report.

• Seat Test HWG Report.

• Ice Protection HWG Report.

• Powerplant Installation HWG Report.

• Design for Security HWG Report.

September 13

• Flight Guidance System HWG Report.

• Systems Design and Analysis HWG Report.

• Extended Range with Two-Engine Aircraft (ETOPS) Tasking Update.

• Flight Test HWG Report.

• Electromagnetic Effects HWG Report.

• Loads & Dynamics HWG Report.

• Flight Controls HWG Report.

• Mechanical Systems HWG Report.

• Electrical Systems HWG Report.

Four HWGs—Powerplant Installation, Flight Control, Mechanical Systems, and Electrical Systems—plan to request ARAC approval of technical reports drafted under the Fast Track Process. The Ice Protection HWG plans to seek approval of its concept for a proposed certification rule addressing Title 14 Code of Federal Regulations 25.1419. The Electromagnetic Effects HWG plans to seek ARAC approval to forward a recommendation to the FAA consisting of a proposed rulemaking and advisory circular addressing high intensity radiated fields. The Loads and Dynamics HWG plans to seek approval of three work plans addressing landing limit descent velocities, ground handling conditions, and towing loads.

Attendance is open to the public, but will be limited to the availability of meeting room space and telephone lines. The public may participate by teleconference by contacting Norm Turner, (425) 234-3312, or by e-mail, norman.g.turner@Boeing.com. Details for participating in the teleconference will be available after September 6. Visitor badges are required to gain entrance to the building in which the meeting is being held. Please confirm your attendance with Norm Turner. Please provide the following information: full legal name, country of citizenship, and name of your company, if applicable.

The public must make arrangements by September 7 to present oral statements at the meeting. Written statements may be presented to the committee at any time by providing 25 copies to the Assistant Executive Director for Transport Airplane and Engine issues or by providing copies at the meeting. Copies of the documents to be presented to ARAC for decision or as recommendations to the FAA may be made available by contacting the person listed under the heading FOR FURTHER INFORMATION CONTACT.

If you are in need of assistance or require a reasonable accommodation for the meeting or meeting documents, please contact the person listed under the heading FOR FURTHER INFORMATION CONTACT. Sign and oral interpretation, as well as a listening device, can be made available if requested 10 calendar days before the meeting.

Issued in Washington, DC on August 18, 2000.
Tony F. Fazio,
Director, Office of Rulemaking.

[FR Doc. 00-21643 Filed 8-23-00; 8:45 am]

BILLING CODE 4910-13-M